DEPARTMENT OF ENERGY

Federal Energy Regulatory Commission

Sunshine Act Meeting Notice

The following notice of meeting is published pursuant to section 3(a) of the government in the Sunshine Act (Pub. L. 94-409), 5 U.S.C. 552b:

AGENCY HOLDING MEETING: Federal Energy Regulatory Commission.

DATE AND TIME: April 19, 2018, 10:00 a.m.

PLACE: Room 2C, 888 First Street NE, Washington, DC 20426.

STATUS: Open.

MATTERS TO BE CONSIDERED: Agenda.

* Note—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's website at http://ferc.capitolconnection.org/ sing the eLibrary link, or may be examined in the Commission's Public Reference Room.

1042nd—Meeting
Regular Meeting
[April 19, 2018, 10:00 a.m.]
Item No. | Docket No. | Company
Administrative
A-1 | AD18-1-000 | Agency Administrative Matters.
A-2 | AD18-2-000 | Customer Matters, Reliability, Security and Market Operations.
A-3 | AD06-3-000 | Market Update.
Electric
E-1 | RM17-2-000 | Uplift Cost Allocation and Transparency in Markets Operated by Regional Transmission Organizations and Independent System Operators.
E-2 | RM17-8-000 | Reform of Generator Interconnection Procedures and Agreements.
E-3 | RM17-11-000 | Revised Critical Infrastructure Protection Reliability Standard CIP-003-7—Cyber Security—Security Management Controls.
E-4 | Omitted
E-5 | ER18-459-000, ER18-460-000 | PJM Interconnection L.L.C. and Ohio Valley Electric Corporation.
E-6 | ER17-1016-001 | PJM Interconnection, L.L.C.
E-7 | ER17-219-002 | PacifiCorp.
E-8 | ER17-2229-001 | Southwest Power Pool, Inc.
Hydro
H-1 | P-12715-013 | Fairlawn Hydroelectric Company, LLC.
H-2 | P-785-034 | Consumers Energy Company.
H-3 | P-14856-001 | America First Hydro LLC.
Certificates
C-1 | PL18-1-000 | Certification of New Interstate Natural Gas Facilities.
C-2 | CP17-469-000 | WBI Energy Transmission, Inc.
C-3 | CP16-20-001 | High Island Offshore System, LLC.
C-4 | CP14-497-001 | Dominion Transmission, Inc.
C-5 | CP15-77-001 | Tennessee Gas Pipeline Company, L.L.C.
C-6 | CP15-148-001 | Tennessee Gas Pipeline Company, L.L.C.

Dated: April 12, 2018.
Nathaniel J. Davis, Sr.,
Deputy Secretary.

A free webcast of this event is available through http://ferc.capitolconnection.org/. Anyone with internet access who desires to view this event can do so by navigating to www.ferc.gov' s Calendar of Events and locating this event in the Calendar. The event will contain a link to its webcast. The Capitol Connection provides technical support for the free webcasts. It also offers access to this event via television in the DC area and via phone bridge for a fee. If you have any questions, visit http://ferc.capitolconnection.org/ or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2018-08082 Filed 4-13-18; 11:15 am]

BILLING CODE 6717-01-P